DEPARTMENT OF HOUSING AND URBAN DEVELOPMENT

[Docket No. FR-6187-N-02]

White House Council on Eliminating Regulatory Barriers to Affordable Housing; Request for Information; Extension of Public Comment Period

AGENCY: Office of the Assistant Secretary for Policy Development and Research (PD&R), Department of Housing and Urban Development (HUD).

ACTION: Request for Information; extension of public comment period.

SUMMARY: Through today's notice, HUD announces that it is extending the public comment period on its “White House Council on Eliminating Regulatory Barriers to Affordable Housing; Request for Information,” published in the Federal Register on November 22, 2019.

DATES: Comment Due Date: The comment due date of January 21, 2020, for the Request for Information published on November 22, 2019, at 84 FR 64549, is extended to January 31, 2020.

ADDRESSES: Interested persons are invited to submit comments responsive to this Request for Information to the Regulations Division, Office of General Counsel, Department of Housing and Urban Development, 451 7th Street SW, Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW, Room 10276, Washington, DC 20410-0500.

2. Electronic Submission of Comments. Interested persons may submit comments electronically through the Federal eRulemaking Portal at http://www.regulations.gov. HUD strongly encourages commenters to submit their feedback and recommendations electronically. Electronic submission of comments allows the commenter maximum time to prepare and submit a response, ensures timely receipt by HUD, and enables HUD to make comments immediately available to the public. Comments submitted electronically through the http://www.regulations.gov website can be viewed by other commenters and interested members of the public. Commenters should follow the instructions provided on that site to submit comments electronically.

Note: To receive consideration as public comments, responses must be submitted through one of the two methods specified above. It is not acceptable to submit comments by facsimile (fax) or electronic mail. Again, all submissions must refer to the docket number and title of the notice.

Public Inspection of Public Comments. All properly submitted comments and communications submitted to HUD will be available for public inspection and downloading at http://www.regulations.gov.

FOR FURTHER INFORMATION CONTACT: Contact Pamela Blumenthal, Office of Policy Development and Research, Department of Housing and Urban Development, 451 7th Street SW, Room 8138, Washington, DC 20410-0500; telephone number 202-402-7012 (this is not a toll-free number). Persons with hearing or speech impairments may access this number through TTY by calling the toll-free Federal Relay Service at 1-800-877-8339.

SUPPLEMENTARY INFORMATION: On November 22, 2019 (84 FR 64549), HUD published a Request for Information in the Federal Register to solicit public comments on Federal, State, local, and Tribal laws, regulations, land use requirements, and administrative practices that artificially raise the costs of affordable housing development and contribute to shortages in housing supply. HUD published this Request for Information consistent with Executive Order 13878, “Establishing a White House Council on Eliminating Regulatory Barriers to Affordable Housing,” dated June 25, 2019 (84 FR 30853). Interested readers should refer to the supplementary information of the November 22, 2019 Request for Information for additional information on Executive Order 13878 and the specific information requested by HUD.

HUD's November 22, 2019 Request for Information established a comment due date of January 21, 2020. In response to recent requests for additional time to submit public comments, HUD believes an extension of the deadline would provide the time needed for Federal, State, local, and Tribal government officials and relevant stakeholders to submit comments and provide the specific information requested. Therefore, HUD is announcing through this notice an extended public comment period, for an additional 10-day period, to January 31, 2020.

Dated: January 8, 2020.
Seth Appleton,
Assistant Secretary for Policy Development and Research.

[FR Doc. 2020-00441 Filed 1-13-20; 8:45 am]

BILLING CODE 4210-67-P